DEPARTMENT OF ENERGY

Federal Energy Regulatory Commission

[Docket No. AD04-8-000]

Electric Creditworthiness Standards; Notice of Agenda for the July 13, 2004, Technical Conference on Credit-Related Issues for Electric Transmission Providers, Independent System Operators, and Regional Transmission Organizations

July 6, 2004.

As announced in the Notice of Conference issued May 28, 2004, the Federal Energy Regulatory Commission (Commission) will hold a Staff technical conference on Tuesday, July 13, 2004, from 9:30 a.m. to 4 p.m. e.s.t. at the Commission's headquarters, 888 First Street, NE., Washington, DC, in the Commission's meeting room (Room 2C). The conference will be conducted by the Commission's Staff, and members of the Commission may be present for all or part of the conference. The Commodity Futures Trading Commission (CFTC) may also participate. All interested parties are invited to attend. There is no requirement to register and no registration fee to attend the conference. The Commission's summer dress code is business casual.

The purpose of the conference is to consider, among other things, whether the Commission should institute a generic rulemaking to consider credit-related issues for service provided by jurisdictional transmission providers,¹ Independent System Operators (ISOs), and Regional Transmission Organizations (RTOs).

¹ For the purposes of this notice, a Transmission Provider is defined as an entity that provides electric transmission service and is neither an ISO nor an RTO.

The conference agenda is appended to this Notice. The agenda includes four subject panels. Panelists are encouraged to file prepared written statements addressing the issues on or before July 13, 2004. Such statements should be filed with the Secretary of the Commission. Following the four panels, there will be time for public comment on issues related to the conference.

The conference will be transcribed. Those interested in acquiring the transcript should contact Ace Reporters at 202-347-3700 or 800-336-6646. Transcripts will be placed in the public record ten days after the Commission receives them.

Capitol Connection offers the opportunity for remote listening and viewing of the conference. It is available for a fee, live over the Internet, by phone, or via satellite. Persons interested in receiving the broadcast or who need information on making arrangements should contact, as soon as possible, David Reininger or Julia Morelli at Capitol Connection (703-993-3100) or visit the Capitol Connection Web site at http://www.capitolconnection.org and click on “FERC.”

Interested parties are urged to watch the docket for any further notices on the conference. You may register online at http://www.ferc.gov/docs-filing/esubscription.asp to be notified via e-mail of new issuances and filings related to this docket. For additional information please contact Eugene Grace, 202-502-8543 or by e-mail at eugene.grace@ferc.gov.

Magalie R. Salas,
Secretary.

[FR Doc. E4-1519 Filed 7-9-04; 8:45 am]

BILLING CODE 6717-01-P